DEPARTMENT OF LABOR

Employment and Training Administration

[TA-W-54,725]

Pristech Products, Inc., Formerly Prism Enterprises Services, Including Leased Workers of Link Staffing Services, San Antonio, TX; Dismissal of Application for Reconsideration

Pursuant to 29 CFR 90.18(c) an application for administrative reconsideration was filed with the Director of the Division of Trade Adjustment Assistance for workers at Pristech Products, Inc., formerly Prism Enterprises Services, including leased workers of Link Staffing Services, San Antonio, Texas. The application contained no new substantial information which would bear importantly on the Department's determination. Therefore, dismissal of the application was issued.

TA-W-54,725; Pristech Products, Inc., formerly Prism Enterprises Services, including leased workers of Link Staffing Services (June 24, 2004)

Signed at Washington, DC, this 25th day of June, 2004.
Timothy Sullivan,
Director, Division of Trade Adjustment Assistance.

[FR Doc. 04-14922 Filed 6-30-04; 8:45 am]

BILLING CODE 4510-30-P